DEPARTMENT OF HOMELAND SECURITY

Federal Emergency Management Agency

[Docket ID FEMA-2024-0002; Internal Agency Docket No. FEMA-B-2454]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Alaska: Valdez- Cordova Census Area | City of Valdez (23-10-0729P) | John Douglas, Manager, City of Valdez, P.O. Box 307, Valdez, AK 99686 | Planning Department, 212 Chenega Avenue, Valdez, AK 99686 | https://msc.fema.gov/portal/advanceSearch | Oct. 18, 2024 | 020094
Colorado:
Arapahoe | City of Aurora (23-08-0511P) | The Honorable Mike Coffman, Mayor, City of Aurora, 15151 East Alameda Parkway, Aurora, CO 80012 | Public Works Department, 15151 East Alameda Parkway, Suite 3200, Aurora, CO 80012 | https://msc.fema.gov/portal/advanceSearch | Oct. 25, 2024 | 080002
Arapahoe | Unincorporated areas of Arapahoe County (23-08-0511P) | Carrie Warren-Gully, Chair, Arapahoe County Board of Commissioners, 5334 South Prince Street, Littleton, CO 80120 | Arapahoe County Public Works and Development Department, 6924 South Lima Street, Centennial, CO 89112 | https://msc.fema.gov/portal/advanceSearch | Oct. 25, 2024 | 080011
Boulder | City of Boulder (23-08-0614P) | The Honorable Aaron Brockett, Mayor, City of Boulder, 1777 Broadway, Boulder, CO 80302 | City Hall, 1777 Broadway, Boulder, CO 80302 | https://msc.fema.gov/portal/advanceSearch | Nov. 18, 2024 | 080024
Douglas | Town of Castle Rock (23-08-0519P) | The Honorable Jason Gray, Mayor, Town of Castle Rock, 100 North Wilcox Street, Castle Rock, CO 80104 | Utilities Department, 175 Kellogg Court, Castle Rock, CO 80109 | https://msc.fema.gov/portal/advanceSearch | Nov. 8, 2024 | 080050
Douglas | Town of Parker (23-08-0527P) | The Honorable Jeff Toborg, Mayor, Town of Parker, 20120 East Main Street, Parker, CO 80138 | Public Works and Engineering Department, 20120 East Main Street, Parker, CO 80138 | https://msc.fema.gov/portal/advanceSearch | Nov. 8, 2024 | 080310
Jefferson | City of Lakewood (24-08-0107P) | The Honorable Wendi Strom, Mayor, City of Lakewood, 480 South Allison Parkway, Lakewood, CO 80226 | Public Works and Engineering Department, 480 South Allison Parkway, Lakewood, CO 80226 | https://msc.fema.gov/portal/advanceSearch | Nov. 22, 2024 | 085075
Delaware: Sussex | City of Rehoboth Beach (24-03-0249P) | The Honorable Stan Mills, Mayor, City of Rehoboth Beach, 229 Rehoboth Avenue, Rehoboth Beach, DE 19971 | Building and Licensing Department, 229 Rehoboth Avenue, Rehoboth Beach, DE 19971 | https://msc fema gov/portal/advanceSearch | Nov. 12, 2024 | 105086
Florida:
Bay | Unincorporated areas of Bay County (23-04-1974P) | Robert Majka, Bay County Manager, 840 West 11th Street, Panama City, FL 32401 | Bay County Government Center, 840 West 11th Street, Panama City, FL 32401 | https://msc fema gov/portal/advanceSearch | Nov. 5, 2024 | 120004
Hillsborough | City of Tampa (23-04-5115P) | The Honorable Jane Castor, Mayor, City of Tampa, 306 East Jackson Street, Tampa, FL 33602 | City Hall, 306 East Jackson Street, Tampa, FL 33602 | https://msc fema gov/portal/advanceSearch | Nov. 25, 2024 | 120114
Lee | Unincorporated areas of Lee County (23-04-5900P) | David Harner, Manager, Lee County, 2115 2nd Street, Fort Myers, FL 33901 | Lee County Building Department, 1500 Monroe Street, Fort Myers, FL 33901 | https://msc fema gov/portal/advanceSearch | Oct. 30, 2024 | 125124
Monroe | Village of Islamorada (24-04-2987P) | The Honorable Joseph “Buddy” Pinder III, Mayor, Village of Islamorada, 86800 Overseas Highway, Islamorada, FL 33036 | Village Hall, 86800 Overseas Highway, Islamorada, FL 33036 | https://msc fema gov/portal/advanceSearch | Nov. 8, 2024 | 120424
Orange | City of Orlando (24-04-1693P) | The Honorable Buddy Dyer, Mayor, City of Orlando, 400 South Orange Avenue, Orlando, FL 32801 | Public Works Department, Engineering Division, 400 South Orange Avenue, 8th Floor, Orlando, FL 32801 | https://msc fema gov/portal/advanceSearch | Nov. 12, 2024 | 120186
Palm Beach | Unincorporated areas of Palm Beach County (24-04-0141P) | Verdenia C. Baker, Palm Beach County Administrator, 301 North Olive Avenue, Suite 1101, West Palm Beach, FL 33401 | Palm Beach County Building Division, Planning Zoning and Building Department, 2300 North Jog Road, 1st Floor, Room 1E-17, West Palm Beach, FL 33411 | https://msc fema gov/portal/advanceSearch | Nov. 12, 2024 | 120192
Palm Beach | Unincorporated areas of Palm Beach County (24-04-0346P) | Verdenia C. Baker, Palm Beach County Administrator, 301 North Olive Avenue, Suite 1101, West Palm Beach, FL 33401 | Palm Beach County Building Division, Planning Zoning and Building Department, 2300 North Jog Road, 1st Floor, Room 1E-17, West Palm Beach, FL 33411 | https://msc fema gov/portal/advanceSearch | Nov. 12, 2024 | 120192
Sumter | City of Wildwood (23-04-2994P) | Jason F. McHugh. Manager, City of Wildwood, 100 North Main Street. Wildwood, FL, 34785 | Sumter County Administration Building, 7375 Powell Road, Wildwood, FL 34785 | https://msc fema gov/portal/advanceSearch | Nov. 1, 2024 | 120299
Sumter | City of Wildwood (23-04-3894P) | Jason F. McHugh, Manager, City of Wildwood, 100 North Main Street, Wildwood, FL 34785 | Sumter County Administration Building, 7375 Powell Road, Wildwood, FL 34785 | https://msc fema gov/portal/advanceSearch | Nov. 4, 2024 | 120299
Sumter | Unincorporated areas of Sumter County (23-04-2994P) | Craig A . Estep, Chair, Sumter County Board of Commissioners, 7375 Powell Road, Wildwood, FL 34785 | Sumter County Administration Building, 7375 Powell Road, Wildwood, FL 34785 | https://msc fema gov/portal/advanceSearch | Nov. 1, 2024 | 120296
Sumter | Unincorporated areas of Sumter County (23-04-3894P) | Craig A. Estep, Chair, Sumter County Board of Commissioners, 7375 Powell Road, Wildwood, FL 34785 | Sumter County Administration Building, 7375 Powell Road, Wildwood, FL 34785 | https://msc fema gov/portal/advanceSearch | Nov. 4, 2024 | 120296
Volusia | City of DeBary (24-04-1649P) | The Honorable Karen Chasez, Mayor, City of DeBary, 16 Colomba Road, Debary, FL 32713 | City Hall, 16 Colomba Road, Debary, FL 32713 | https://msc fema gov/portal/advanceSearch | Nov. 18, 2024 | 120672
Maryland:
Frederick | City of Frederick (24-03-0557P) | The Honorable Michael O'Connor, Mayor, City of Frederick, 101 North Court Street, Frederick, MD 21701 | City Hall, 140 West Patrick Street, Frederick, MD 21701 | https://msc fema gov/portal/advanceSearch | Nov. 4, 2024 | 240030
Frederick | Unincorporated areas of Frederick County (24-03-0557P) | Jessica Fitzwater, Frederick County Executive, 12 East Church Street, Frederick, MD 21701 | Frederick County Government Center, 12 East Church Street, Frederick, MD 21701 | https://msc fema gov/portal/advanceSearch | Nov. 4, 2024 | 240027
Pennsylvania:
Lehigh | Township of Lower Macungie (24-03-0106P) | Brian P. Higgins, President, Township of Lower Macungie, Board of Commissioners, 3400 Brookside Road, Macungie, PA 18062 | Township Hall, 3400 Brookside Road, Macungie, PA 18062 | https://msc fema gov/portal/advanceSearch | Nov. 4, 2024 | 420589
Luzerne | Borough of Plymouth (24-03-0555P) | Ron Kobusky, President, Borough of Plymouth Council, 162 West Shawnee Avenue, Plymouth, PA 18651 | Borough Hall, 162 West Shawnee Avenue, Plymouth, PA 18651 | https://msc fema gov/portal/advanceSearch | Nov. 12, 2024 | 420622
Luzerne | City of Wilkes-Barre (24-03-0556P) | The Honorable George C. Brown, Mayor, City of Wilkes-Barre, 40 East Market Street, 4th Floor, Wilkes-Barre, PA 18711 | Planning and Zoning Department, 40 East Market Street, 1st Floor, Wilkes-Barre, PA 18711 | https://msc fema gov/portal/advanceSearch | Nov. 12, 2024 | 420631
Luzerne | Township of Hanover (24-03-0556P) | George L. Andrejko, Chair, Township of Hanover, Board of Commissioners, 1267 Sans Souci Parkway, Hanover Township, PA 18706 | Township Hall, 1267 Sans Souci Parkway, Hanover Township, PA 18706 | https://msc fema gov/portal/advanceSearch | Nov. 12, 2024 | 420608
Luzerne | Township of Plymouth (24-03-0555P) | James Murphy, Chair, Township of Plymouth, Board of Supervisors, 925 West Main Street, Plymouth, PA 18651 | Township Hall, 925 West Main Street, Plymouth, PA 18651 | https://msc fema gov/portal/advanceSearch | Nov. 12, 2024 | 420623
Texas:
Denton | City of Corinth (24-06-0452P) | Scott Campbell, Manager, City of Corinth, 3300 Corinth Parkway, Corinth, TX 76208 | Engineering Department, 1200 North Corinth Street, Corinth, TX 76208 | https://msc fema gov/portal/advanceSearch | Nov. 18, 2024 | 481143
Denton | City of Frisco (24-06-0061P) | The Honorable Jeff Cheney, Mayor, City of Frisco, 6101 Frisco Square Boulevard, Frisco, TX 75034 | City Hall, 6101 Frisco Square Boulevard, Frisco, TX 75034 | https://msc fema gov/portal/advanceSearch | Nov. 4, 2024 | 480134
Denton | Unincorporated areas of Denton County (24-06-0329P) | The Honorable Andy Eads, Denton County Judge, 1 Courthouse Drive, Suite 3100, Denton, TX 76208 | Denton County Development Services Department, 3900 Morse Street, Denton, TX 76208 | https://msc fema gov/portal/advanceSearch | Nov. 18, 2024 | 480774
Kaufman | City of Kaufman (24-06-0434P) | The Honorable Jeff Jordan, Mayor, City of Kaufman, 209 South Washington Street, Kaufman, TX 75142 | City Hall, 209 South Washington Street, Kaufman, TX 75142 | https://msc fema gov/portal/advanceSearch | Nov. 8, 2024 | 480407
Kaufman | Unincorporated areas of Kaufman County (24-06-1281P) | The Honorable Jakie Allen Kaufman, County Judge, 1902 East U.S. Highway 175, Kaufman, TX 75142 | Kaufman County Development Services Department, 101 North Houston Street, Kaufman, TX 75142 | https://msc fema gov/portal/advanceSearch | Oct. 25, 2024 | 480411
Kendall | Unincorporated areas of Kendall County (23-06-2463P) | The Honorable Shane Stolarczyk, Kendall County Judge, 201 East San Antonio Avenue, Suite 122, Boerne, TX 78006 | Kendall County Courthouse, 201 East San Antonio Avenue, Suite 101, Boerne, TX 78006 | https://msc fema gov/portal/advanceSearch | Oct. 15, 2024 | 480417
Laramie | City of Cheyenne (23-08-0495P) | The Honorable Patrick Collins, Mayor, City of Cheyenne, 2101 O'Neil Avenue, Cheyenne, WY 82001 | Engineering Department, 2101 O'Neil Avenue, Suite 206, Cheyenne, WY 82001 | https://msc fema gov/portal/advanceSearch | Oct. 15, 2024 | 560030
Washington DC | District of Columbia (23-03-0609P) | The Honorable Muriel Bowser, Mayor, District of Columbia, 1350 Pennsylvania Avenue Northwest, Washington, DC 20004 | Department of Energy and Environment, 1200 First Street Northeast, 5th Floor, Washington, DC 20002 | https://msc fema gov/portal/advanceSearch | Oct. 30, 2024 | 110001

[FR Doc. 2024-17829 Filed 8-9-24; 8:45 am]

BILLING CODE 9110-12-P